SECURITIES AND EXCHANGE COMMISSION

[Release No. 34-75460; File No. SR-NYSEMKT-2015-48]

Self-Regulatory Organizations; NYSE MKT LLC; Notice of Filing and Immediate Effectiveness of Proposed Rule Change Extending the Pilot Period Applicable to the Customer Best Execution Auction per Rule 971.1NY Until July 18, 2016

July 15, 2015.

Correction

In notice document 2015-17759, appearing on pages 43141 through 43143 in the issue of Tuesday, July 21, 2015, make the following correction:

On page 43143, in the first column, in the last paragraph before the signature block, on the 38th line, “August 10, 2015.” should read “August 11, 2015.”

[FR Doc. 2015-17759 Filed 8-4-15; 8:45 am]

BILLING CODE 1505-01-P